DEPARTMENT OF THE INTERIOR

Bureau of Land Management

[CO-110-1430-ER; COC-61966, COC-64359, COC-61963, COC-61964, COC-61965, COC-65274, COC-61962-1 thru 6]

Notice of Realty Action: Noncompetitive/Modified Competitive Sale of Public Lands; Colorado

AGENCY: Bureau of Land Management, Interior.

ACTION: Notice.

SUMMARY: The following lands have been found suitable for direct or modified competitive sale under section 203 of the Federal Land Policy and Management Act of 1976 (90 Stat. 2750, 43 U.S.C. 1713), at not less than the estimated fair market value (FMV) indicated. The land will not be offered for sale until at least April 23, 2002. All legal descriptions are Sixth Principal Meridian, Colorado.

Parcel 1 (COC61966); contains 10.47 acres m/l; FMV of $40,000; direct sale to Chris Halandras

T. 1 N., R. 95 W.,

Sec. 29, lot 15.

Parcel 2 (COC64359); contains 2.52 acres m/l; FMV of $10,000; direct sale to Victor Parker

T. 1 N., R. 95 W.,

Sec. 32, lot 46

Parcel 3 (COC61963); contains 3.35 acres m/l; FMV of $2,500; direct sale to Walter Powell

T. 2 N., R. 99 W.,

Sec. 6, lot 22.

Parcel 4 (COC61964); contains 7.85 acres m/l; FMV of $11,775; direct sale to Gary Staley

T. 2 N., R. 100 W.,

Sec. 8, lot 13.

Parcel 5 (COC61965); contains 7.5 acres m/l; FMV of $4,500; direct sale to Mark Slawson

T. 3 S., R. 101 W.,

Sec. 8, SW¼NW¼NW¼SW¼, W½SW¼NW¼SW¼.

Parcel 6 (COC65274); contains 80 acres m/l; FMV of $160,000; direct sale to James Goff

T. 3 S., R. 93 W.,

Sec. 29, NW¼NW¼.

T. 3 S., R. 94 W.,

Sec. 14, NE¼SE¼.

Parcel 7 (COC61962-2); contains 2.49 acres m/l; FMV of $25,750; direct sale to Taylor Temples

T. 1 N., R. 91 W.,

Sec. 36, lot 38

Parcel 8 (COC61962-1 ); contains 4.24 acres m/l; FMV of $63,600; modified competitive sale, offered to adjacent landowners

T. 1 N., R. 91 W.,

Sec. 25, lot 15.

Parcel 9 (COC 61962-4); contains 5.02 acres m/l; FMV of $68,150; modified competitive sale offered to adjacent landowners

T. 1 N., R. 91 W.,

Sec. 36, lots 59 and 60.

Parcel 10 (COC61962-3 ); contains 5.01 acres m/l; FMV of $68,000; modified competitive sale offered to adjacent landowners

T. 1 N., R. 91 W.,

Sec. 36, lots 19 and 39.

Parcel 11 (COC61962-5,6); contains 9.75 acres m/l; FMV of $132,350; direct sale to Howard Cooper

T. 1 N., R. 91 W.,

Sec. 36, lots 27, and 52.

In accordance with section 7 of the Taylor Grazing Act, 43 U.S.C. 315 f, and Executive Order 6910, the described lands are hereby classified for disposal by sale. The described lands are classified for disposal, and this proposed sale is in conformance with the White River Resource Management Plan dated July 1, 1997.

These lands were identified for disposal in an approved land use plan in effect on July 25, 2000. The proceeds from sale will be deposited in the Federal Land Disposal Account established with the Federal Lands Transaction Facilitation Act, Public Law 106-248.

The land described is hereby segregated from appropriation under the public land laws, including the mining laws, pending disposition of this action, or 270 days from the date of publication of this notice, whichever occurs first.

Parcels 8, 9, and 10, will be offered for sale at auction beginning at 10 AM MST on April 8, 2002, at 73544 highway 64, Meeker, Colorado. Only owners of adjacent parcels of land will be qualified to bid. The purpose of the sale is to implement land tenure adjustment decisions made in the White River Resource Management Plan of 1997.

Sealed bids for parcels 8, 9, and 10, must be submitted to the BLM White River Field Office at 73544 Highway 64, Meeker, Colorado 81641, not later than 4:00 PM MST, April 8, 2002. Bid envelopes must be marked on the left front corner with the file and parcel numbers, and the sale date. Bids must be for not less than the appraised FMV as stated in this notice. Each sealed bid shall be accompanied by a certified check, postal money order, bank draft, or cashiers check made payable to the Department of Interior, BLM, for not less than 10 percent of the bid amount. The remainder of the full bid price must be paid within 180 calendar days of the date of sale. Failure to pay the full price within 180 days will disqualify the apparent high bidder and cause the bid deposit to be forfeited to the BLM.

The patents, when issued, will contain certain reservations to the United States and will be subject to existing easements as follows:

1. In all patents, all mineral deposits are reserved to the United States together with the right to explore for and extract the same under applicable regulations;

2. In all patents, a right-of-way is reserved for ditches and canals constructed by authority of the United States under the Act of August 30, 1890 (43 U.S.C. 945).

3. In the patent for parcel 3, the United States will reserve an exclusive right of access across the existing Boise Creek Road where it crosses the subject parcel.

“Patents for the lands in the following parcels will be subject to existing rights-of-way'':

Parcel # | Serial # | Width | Purpose | Current R/W holder
1 & 2 | COD-057420 | Variable | State Hwy 64 | Colo. Dept' Transportation.
| COC-25262 | 16 ft | Telephone Line | Qwest Corporation.
| COC-64007 | 8 ft | Fiber Optics Cable | Uintah Basin Telecom Assoc.
3 | COC-39399 | 40 ft | Elec Power Line | Moon Lake Electric Assoc.
4 | COC-48525 | 20 ft | Elec Power Line | Moon Lake Electric Assoc.
| COC-49119 | 30 ft | Access Road | Gary Staley.
|  | 10 ft | Water Pipeline | Gary Staley.
7 | COC-59836 | 10 ft | Water Pipelines | Taylor & Norma Temples.
7 & 8 | COC-39375 | 20 ft | Elec Power Line | White River Electric Assoc.
9 & 10 | COC-52068 | 10 ft | Telephone Line | Qwest Corporation.
11 | COC-0120824 | 25 ft | Elec Power Line | White River Electric Assoc.
| COC-62356 | 20 ft. | Access Road | Howard Cooper.

“Patents for the lands in Parcels 7, 9, 10, and 11 will be issued subject to the provisions, reservations, conditions, and limitations of section 24 of the Federal Power Act of June 10, 1920 (41 Stat. 1075) as amended by the Act of August 26, 1935 (49 Stat. 846; 16 U.S.C. Sec. 818)”.

Detailed information concerning the sale, including the reservations, procedures for and specific conditions of the sale, and planning and environmental documents, are available for review at the White River Field Office, Bureau of Land Management, 73544 Highway 64, Meeker, Colorado 81641, during regular office hours of 7:45 a.m. to 4:30 p.m.

For a period of 45 days from the date of publication of this notice in the Federal Register, interested parties may submit comments to the Field Manager, White River Field Office, at the above address. Adverse comments will be reviewed by the Colorado State Director, who may sustain, vacate, or modify this realty action. In the absence of timely adverse comments, this proposal shall become the final determination of the Department of the Interior. The BLM may accept or reject any or all offers, or withdraw any land or interest in land from sale.

Dated: January 29, 2002.
Kent E. Walter,
Field Manager.

[FR Doc. 02-4315 Filed 2-21-02; 8:45 am]

BILLING CODE 1430-JB-P